DEPARTMENT OF ENERGY

Federal Energy Regulatory Commission

[Docket No. CP01-30-000]

ONEOK Midstream Pipeline, Inc., Oktex Pipeline Company; Notice of Application

November 17, 2000.

On November 13, 2000, ONEOK Midstream Pipeline, Inc. (ONEOK Midstream) and Oktex Pipeline Company (Oktex), both at 100 West Fifth Street, Tulsa, Oklahoma 74103 and referred to together as Applicants, jointly filed in Docket No. CP01-30-000 and application pursuant to Section 7 of the Natural Gas Act (NGA) and the Commission's Rules and Regulations for permission to permit ONEOK Midstream to abandon all of its facilities by sale to Oktex and for Oktex to acquire the facilities from ONEOK Midstream, all as more fully set forth in the application which is on file with the Commission and open to public inspection. The filing may be viewed at http://www.ferc.fed.us/online/rims.htm (call 202-208-2222 for assistance).

Applicants indicate that ONEOK Midstream will be merged into Oktex, an interstate affiliate. Applicants propose that ONEOK Midstream be permitted to abandon by sale to Oktex all of its facilities and for Oktex to acquire those facilities. It is stated that the facilities include 27 miles of 16-inch pipeline in Garfield County, Oklahoma which extend from the tailgate of the Rodman Plant to interconnections with Williams Pipeline Central, Inc., ONEOK Gas Transportation, LLC, Transok, LLC and Reliant Interstate Gas Transmission Company. Applicants indicate that Oktex has agreed to assume all service obligations and operational and economic responsibilities for the subject facilities, and will adopt the firm and interruptible transportation rates of ONEOK Midstream for service along the Rodman line. In addition, it is indicated that Oktex will operate the facilities as part of its interstate system.

Questions regarding the details of this proposed project should be directed to C. Burnett Dunn of Gable & Gotwals, at (918)-595-4816.

There are two ways to become involved in the Commission's review of this project. First, any person wishing to obtain legal status by becoming a party to the proceedings for this project should, on or before November 27, 2000, file with the Federal Energy Regulatory Commission, 888 First Street, NE, Washington, D.C. 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest. Also, non-party commenters will not receive copies of all documents filed by other parties or issued by the Commission and will not have the right to seek court review of the Commission's final order.

Comments and protests may be filed electronically via the internet in lieu of paper. See, 18 CFR 385.2001(a)(1)(iii) and the instructions on the Commission's web site at http://www.ferc.fed.us/efi/doorbell.htm.

If the Commission decides to set the application for a formal hearing before an Administrative Law Judge, the Commission will issue another notice describing that process. At the end of the Commission's review process, a final Commission order approving or denying a certificate will be issued.

Linwood A. Watson, Jr.,
Acting Secretary.

[FR Doc. 00-29948 Filed 11-22-00; 8:45 am]

BILLING CODE 6717-01-M